EXPORT-IMPORT BANK OF THE UNITED STATES

Sunshine Act Meeting

ACTION: Notice of a partially open meeting of the Board of Directors of the Export-Import Bank of the United States.

Time and Place: Thursday, February 2, 2006 at 9:30 a.m. The meeting will be held at Ex-Im Bank in Room 1143, 811 Vermont Avenue, NW., Washington, DC 20571.

Open Agenda Item

1. Request for Individual Delegated authority and Amendment to Short-Term Insurance Program for Iraq; and

2. Renewal of Short-Term Insurance Pilot Program for Africa.

Public Participation

The meeting will be open to public participation for Items No. 1 and 2 only.

Further Information: For further information, contact: Office of the Secretary, 811 Vermont Avenue, NW., Washington, DC 20571 (Tele. No. 202-565-3957).

Howard A. Schweitzer,
Acting General Counsel.

[FR Doc. 06-996 Filed 1-30-06; 3:33 pm]

BILLING CODE 6690-01-M